DEPARTMENT OF ENERGY

Federal Energy Regulatory Commission

[Docket No. CP01-415-003]

East Tennessee Natural Gas Company; Notice of Amendment

July 5, 2002.

Take notice that on June 26, 2002, East Tennessee Natural Gas Company (East Tennessee), 5400 Westheimer Court, Houston, Texas 77056-5310, filed with the Commission in Docket No. CP01-415-003 a petition to amend its application filed on July 26, 2001, in Docket No. CP01-415-000, pursuant to Section 7(c) of the Natural Gas Act (NGA), to modify the proposed construction and operation of facilities in the Patriot Project. Specifically, East Tennessee seeks authorization to incorporate into the Patriot Project certain facilities previously proposed and authorized, but not yet constructed, in Docket No. CP01-375-000 to serve the Tennessee Valley Authority (TVA),¹ all as more fully set forth in the amendment which is open to the public for inspection. This petition may be viewed on the web at http://www.ferc.gov using the “RIMS” link, select “Docket #” and follow the instructions (call (202)208-2222 for assistance).

¹ 97 FERC ¶ 61,361 (2001). East Tennessee made a separate filing with the Commission on June 26, 2002, in Docket No. CP01-375-000, to partially vacate the authorization previously granted in Docket No. CP01-375-000.

East Tennessee proposes to amend its Patriot Project to undertake the following activities:

a. Eliminate 13.76 miles of 20-inch diameter pipeline loop on Line 3200 in Franklin, Grundy, Hamilton, Marion, and Sequatchie Counties, Tennessee, originally proposed in the July 26, 2001, application filed in Docket No. CP01-415-000;

b. Eliminate uprate of the Maximum Allowable Operating Pressure (MAOP) on 6.14 miles of 16-inch diameter pipeline (Uprate K) on Line 3300 in Sevier County, Tennessee, originally proposed in the July 26, 2001, application filed in Docket No. CP01-415-000;

c. Install a 1,590 H.P. Saturn compression unit in lieu of the 6,270 H.P. compression unit authorized for Compressor Station 3206 in Marshall County, Tennessee, in Docket No. CP01-375-000, and install a 6,270 H.P. Centaur compression unit in lieu of the 10,310 H.P. Taurus compression unit originally proposed for Compressor Station 3306 in Greene County, Tennessee, in the July 26, 2001, application filed in Docket No. CP01-415-000;

d. Replace aerodynamic assemblies at Compressor Stations 3206 and 3209 in Marshall and Franklin Counties, Tennessee, respectively, as authorized in Docket No. CP01-375-000;

e. Incorporate 8.74 miles of 20-inch diameter pipeline on Line 3200 in Moore and Franklin Counties, Tennessee, authorized in Docket No. CP01-375-000 as the TVA Loop 3;

f. Uprate the MAOP on 5.44 miles of 12-inch diameter pipeline on Line 3200 in Franklin County, Tennessee, authorized in Docket No. CP01-375-000; and,

g. Eliminate reverse compression at Compressor Station 3219 in Blount County, Tennessee, because the amended precedent agreement with Henry County Power, LLC, shifted the natural gas volumes to be received at various receipt points (however, no change in the total natural gas volumes is proposed).

Any questions regarding the application should be directed to Steven E. Tillman, Director, Regulatory Affairs, East Tennessee Natural Gas Company, P.O. Box 1642, Houston, Texas 77251-1642, phone number (713) 627-5113.

There are two ways to become involved in the Commission's review of this project. First, any person wishing to obtain legal status by becoming a party to the proceedings for this project should, on or before July 26, 2002, file with the Federal Energy Regulatory Commission, 888 First Street, NE., Washington, DC 20426, a motion to intervene or a protest in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper; see 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

Magalie R. Salas,
Secretary.

[FR Doc. 02-17437 Filed 7-10-02; 8:45 am]

BILLING CODE 6717-01-P